ENVIRONMENTAL PROTECTION AGENCY

[FRL-7774-5; Docket ID Numbers: OAR-2004-0058 to OAR-2004-0062]

Agency Information Collection Activities: Proposed Collections; Request for Comment on Five Proposed Information Collection Requests (ICRs)

AGENCY: Environmental Protection Agency (EPA).

ACTION: Notice.

SUMMARY: In compliance with the Paperwork Reduction Act (44 U.S.C. 3501 et seq.), this document announces that EPA is planning to submit five continuing Information Collection Requests (ICRs) to the Office of Management and Budget (OMB). This is a request to renew five existing approved collections. These ICRs are scheduled to expire between August 31, 2004 and December 31, 2004 as listed below. Refer to section INFORMATION FOR INDIVIDUAL ICRS for information pertaining to each individual ICR. Before submitting these ICRs to OMB for review and approval, EPA is soliciting comments on specific aspects of the proposed information collections as described below.

DATES: Comments must be submitted on or before August 17, 2004.

ADDRESSES: Submit your comments, referencing the appropriate docket ID number listed under each ICR title (see below), to EPA online using EDOCKET (our preferred method), by e-mail to a-and-r-docket@epamail.epa.gov, or by mail to: EPA Docket Center, Environmental Protection Agency, Air and Radiation Docket and Information Center, Mail Code 6102T, 1200 Pennsylvania Ave., NW., Washington, DC 20460.

FOR FURTHER INFORMATION CONTACT: Ms. Nydia Y. Reyes-Morales, Mail Code 6403J, Environmental Protection Agency, 1200 Pennsylvania Ave., NW., Washington, DC 20460; telephone number: (202) 343-9264; fax number: (202) 343-2804; e-mail address: reyes-morales.nydia@epa.gov.

SUPPLEMENTARY INFORMATION: EPA has established a public docket for each ICR. The docket number of each ICR is listed below under the ICR title. The dockets are available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the appropriate docket ID number as identified below.

Any comments related to these ICRs should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Information for all ICRS

The information requested under all ICRs is collected by the Engine Programs Group, Certification and Compliance Division, Office of Transportation and Air Quality, Office of Air and Radiation. Confidentiality of proprietary information submitted by manufacturers is granted in accordance with the Freedom of Information Act, EPA regulations at 40 CFR part 2, and class determinations issued by EPA's Office of General Counsel.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

An estimated burden is provided for each ICR. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Information for Individual ICR

(1) Title: Transition Program for Equipment Manufacturers; EPA ICR Number 1826.03, OMB Control Number 2060-0369, expiring on 9/30/2004.

Docket Number: OAR-2004-0058.

Affected entities: Entities potentially affected by these actions are manufacturers of nonroad compression-ignition engine and equipment manufacturers, and post-manufacture marinizers.

Abstract: In August 1998, EPA established emission standards (Tier I standards) for engines under 37 kW, and tightened existing standards (Tier II standards) for engines above 37 kW. To comply with the new standards, engine manufacturers may make changes to engine designs. During the rulemaking process, some equipment manufacturers expressed concerns about delays in notification from engine manufacturers about engine design changes. These design changes can create problems in fitting the engine to the equipment. Consequently, equipment manufacturers would be unable to sell the volume of equipment they planned for, since they would need to redesign their equipment before any products could be sold. In an effort to provide original equipment manufacturers (OEMs) with some flexibility in complying with the regulations, EPA created the Transition Program for Equipment Manufacturers (TPEM). Under the program, OEMs are allowed to use a number of noncompliant engines (uncertified engines rated below 37 kW or Tier I engines rated at or above 37 kW) in their equipment for up to seven years after the effective date of the standards. Participation in the program is voluntary. Participating OEMs and engine manufacturers who provide the noncompliant engines to the OEMs are required to keep records and submit reports of their activities under the program.

Burden Statement: The annual public reporting and recordkeeping burden is estimated to average 146 hours per participating equipment manufacturer or post-manufacture marinizer and 72 hours per engine manufacturer.

(2) Title: Emissions Certification and Compliance Requirements for Nonroad Compression-ignition Engines and On-highway Heavy Duty Engines; EPA ICR Number 1684.06, OMB Control Number 2060-0287, expiring on 9/30/2004.

Docket Number: OAR-2004-0059.

Affected entities: Entities potentially affected by these actions are manufacturers of nonroad compression-ignition engines.

Abstract: This information collection is requested under the authority of Title II of the Clean Air Act (42 U.S.C. 7521 et seq.). Under this Title, EPA is charged with issuing certificates of conformity for those engines which comply with applicable emission standards. Such a certificate must be issued before engines may be legally introduced into commerce. Certification requirements for compression-ignition engines are set forth at 40 CFR part 89. To apply for a certificate of conformity, manufacturers are required to submit descriptions of their planned production line, including detailed descriptions of the emission control system, and test data. This information is organized by “engine family” groups expected to have similar emission characteristics. There are also recordkeeping and labeling requirements. Manufacturers electing to participate in the AB&T Program are also required to submit information regarding the calculation of projected and actual generation and usage of credits in an initial report, end-of-the-year report and final report. These reports are used for certification and enforcement purposes. Manufacturers need to maintain records for eight years on the engine families participating in the program. In this notice, former ICR 0011.08 (“Selective Enforcement Auditing and Recordkeeping Requirements for On-Highway Heavy-Duty Engines, Nonroad Large Compression Ignition Engines, and On-Highway Light-Duty Vehicles and Light-Duty Trucks,” OMB Control Number 2060-0064, expired on 8/31/1999) is being incorporated into ICR 1684.06. This action is undertaken to consolidate information requirements for the same industry into one ICR, for simplification. With this consolidation, we combine the burden associated with the certification, AB&T and SEA programs for non-road compression-ignition engines. Portions of former ICR 1897.04 (“Information Requirements for Nonroad Diesel Engines (Nonroad Large SI Engines and Marine Diesel Engines)” OMB Control Number 2060-0460, expiring on 10/31/2004) related to certification requirements for marine compression-ignition engines are also being incorporated into ICR 1684.06. With this consolidation, we combine all the certification and compliance burden associated with the compression-ignition engine industry.

Burden Statement: The annual public reporting and recordkeeping burden is estimated to average 327 hours per respondent for the on-highway certification program, 333 hours per respondent for the on-highway AB&T program; 284 hours per respondent for the nonroad certification program, and 460 hours per respondent for the nonroad AB&T program.

(3) Title: Emissions Certification and Compliance Requirements for Nonroad Spark-ignition Engines; EPA ICR Number 1695.08, OMB Control Number 2060-0338, expiring on 9/30/2004.

Docket Number: OAR-2004-0060.

Affected entities: Entities potentially affected by these actions are manufacturers of nonroad spark-ignition engines.

Abstract: This information collection is requested under the authority of Title II of the Clean Air Act (42 U.S.C. 7521 et seq.). Under this Title, EPA is charged with issuing certificates of conformity for those engines which comply with applicable emission standards. Such a certificate must be issued before engines may be legally introduced into commerce. Certification requirements for spark-ignition engines are set forth at 40 CFR part 90. To apply for a certificate of conformity, manufacturers are required to submit descriptions of their planned production line, including detailed descriptions of the emission control system, and test data. This information is organized by “engine family” groups expected to have similar emission characteristics. The emission values achieved during certification testing are used in the Averaging, Banking, and Trading (ABT) Program. The program allows manufacturers to bank credits for engine families that emit below the standard and use the credits for families that are above the standard, or trade banked credits with other manufacturers. Participation in the ABT program is voluntary. There are also recordkeeping and labeling requirements. In this notice, former ICR 1845.03 (“Production Line Testing, In-use Testing, and Selective Enforcement Auditing Reporting and Recordkeeping Requirements for Manufacturers of Nonroad Spark Ignition Engines At or Below 19 Kilowatts,” OMB Control Number 2060-0427, expiring on 3/31/2007) is being incorporated into ICR 1695.08 . This action is undertaken to consolidate certification and compliance information requirements for spark-ignition engines below 19 kW into one ICR for simplification. Portions of former ICR 1897.04 (“Information Requirements for Nonroad Diesel Engines (Nonroad Large SI Engines and Marine Diesel Engines),” OMB Control Number 2060-0460, expiring on 10/31/2004) related to certification requirements for spark ignition engines above 19 kW are also being incorporated into ICR 1695.08. With this consolidation, we combine all the certification and compliance burden associated with the spark-ignition engine industry.

Burden Statement: The annual public reporting and recordkeeping burden is estimated to average 916 hours per respondent for the certification program, 6,709 hours for the PLT program, 705 hours for the In-use program and 528 hours for the SEA Program.

(4) Title: Emissions Certification and Compliance Requirements for Marine Engines; EPA ICR Number 1722.04, OMB Control Number 2060-0321, expiring on 9/30/2004.

Docket Number: OAR-2004-0061.

Affected entities: Entities potentially affected by these actions are manufacturers of marine spark-ignition engines.

Abstract: Under Title II of the Clean Air Act (42 U.S.C. 7521 et seq.; CAA), EPA is charged with issuing certificates of conformity for certain spark-ignition engines used to propel marine vessels that comply with applicable emission standards. Such a certificate must be issued before engines may be legally introduced into commerce. To apply for a certificate of conformity, manufacturers are required to submit descriptions of their planned production line, including detailed descriptions of the emission control system and engine emission test data. This information is organized by “engine family” groups expected to have similar emission characteristics. To comply with the corporate average emission standard, manufacturers must use the Averaging, Banking and Trading Program (AB&T) and must submit information regarding the calculation, actual generation and usage of emission credits in an initial report, end-of-the-year report, and final report. These reports are used for engine family certification, that is, to insure pre-production compliance with emissions requirements, and enforcement purposes. Manufacturers must maintain records for eight years on the engine families included in the program. In this notice, former ICRs 1725.03 (“Marine Engine Manufacturers Assembly-Line Testing Reporting & Recordkeeping Requirements, “ OMB Control Number 2060-0323, expiring on 9/30/2004) and 1726.03 (“Marine Engine Manufacturer Based In-Use Emission Testing Program,” OMB Number 2060-0322, expiring on 10/31/2004) are being incorporated into ICR 1684.06. This action is undertaken to consolidate information requirements for the same industry into one ICR, for simplification. With this consolidation, we combine the burden associated with the certification, AB&T, PLT and In-use Testing programs for marine spark-ignition engines. Under the Production-line Testing (PLT) Program, manufacturers are required to test a sample of engines as they leave the assembly line. This self-audit program allows manufacturers to monitor compliance with statistical certainty and minimize the cost of correcting errors through early detection. Under the In-use Testing Program, manufacturers are required to test engines after a number of hours of use to verify that they comply with emission standards throughout their useful lives. There are recordkeeping requirements in all programs.

Burden Statement: The annual public reporting and recordkeeping burden is estimated to average 3,865 hours per respondent for the certification program, 1,930 hours per respondent for the PLT program and 2,041 hours per respondent for in-use program.

(5) Title: Information Requirements for Locomotive and Locomotive Engines; EPA ICR Number 1800.03, OMB Control Number 2060-0392, expiring on 12/31/2004.

Docket Number: OAR-2004-0062.

Affected entities: Entities potentially affected by these actions are manufacturers and remanufacturers of locomotives and locomotive engines.

Abstract: The Clean Air Act requires manufacturers and remanufacturers of locomotives and locomotive engines to obtain a certificate of conformity with applicable emission standards before they may be legally introduced their products into commerce. To apply for a certificate of conformity, respondents are required to submit descriptions of their planned production, including detailed descriptions of emission control systems and test data. This information is organized by “engine family” groups expected to have similar emission characteristics and is submitted every year, at the beginning of the model year. Respondents electing to participate in the Averaging, Banking and Trading (AB&T) Program are also required to submit information regarding the calculation, actual generation and usage of credits in quarterly reports, and an end-of-the-year report. Under the Production-line Testing (PLT) Program, manufacturers are required to test a sample of engines as they leave the assembly line. The Installation Audit Program requires remanufacturers to audit the installation of a sample of remanufactured engines. These self-audit programs (collectively referred to as the “PLT Program”) allow manufacturers and remanufacturers to monitor compliance with statistical certainty and minimize the cost of correcting errors through early detection. Under the In-use Testing Program, manufacturers and remanufacturers are required to test locomotives after a number of years of use to verify that they comply with emission standards throughout their useful lives. There are recordkeeping requirements in all programs.

Burden Statement: The annual public reporting and recordkeeping burden associated with the certification program is estimated to average 203 hours per manufacturer and 159 per remanufacturer. Respondents electing to participate in the AB&T program spend 278 hours per year on average. The annual burden associated with participation in the PLT Program is 183 hours for manufacturers and 155 for remanufacturers. In-use testing burden is 155 hours for manufacturers and 60 hours for remanufacturers.

Dated: June 10, 2004.
Robert Brenner,
Acting Assistant Administrator, Office of Air and Radiation.

[FR Doc. 04-13855 Filed 6-17-04; 8:45 am]

BILLING CODE 6560-50-P